FEDERAL COMMUNICATIONS COMMISSION

47 CFR Part 73

[DA 00-1904; MM Docket No. 98-59; RM-9859, RM-9886]

Radio Broadcasting Services; Casper, Lusk, and Sinclair, WY

AGENCY: Federal Communications Commission.

ACTION: Final rule.

SUMMARY: The Commission, at the request of Citicasters Co., allots Channel 228C1 at Casper, Wyoming, as the community's eighth local commercial FM transmission service (RM-9859). See 63 FR 24517, May 4, 1998. At the request of Mountain States Radio, Inc., we also allot Channel 242C at Lusk, and Channel 262C at Sinclair as each community's first local aural transmission service (RM-9886). Channel 228C1 can be allotted to Casper in compliance with the Commission's minimum distance separation requirements with a site restriction of 7.9 kilometers (2.2 miles) southeast to avoid a short-spacing to the allotment reference site for Channel 228A at Moorcoft, Wyoming. The coordinates for Channel 228C1 at Casper are 42-47-45 North Latitude and 106-22-53 West Longitude. Additionally, Channel 242C can be allotted to Lusk in compliance with the Commission's minimum distance separation requirements at city reference coordinates; and Channel 262C can be allotted to Sinclair with a site restriction of 8 kilometers (5 miles) north at petitioner's requested site. The coordinates for Channel 242C at Lusk are 42-45-42 North Latitude and 104-27-06 West Longitude; and the coordinates for Channel 262C at Sinclair are 41-51-01 North Latitude and 107-06-48 West Longitude.

DATES: Effective October 2, 2000. A filing window for Channel 228C1 at Casper, Wyoming, Channel 242C at Lusk, Wyoming, and Channel 262C at Sinclair, Wyoming, will not be opened at this time. Instead, the issue of opening filing windows for these channels will be addressed by the Commission in a subsequent order.

ADDRESSES: Federal Communications Commission, Washington, DC 20554.

FOR FURTHER INFORMATION CONTACT: Sharon P. McDonald, Mass Media Bureau, (202) 418-2180.

SUPPLEMENTARY INFORMATION: This is a synopsis of the Commission's Report and Order, MM Docket No. 99-59, adopted August 8, 2000, and released August 18, 2000. The full text of this Commission decision is available for inspection and copying during normal business hours in the FCC Reference Information Center (Room CY-A257), 445 12th Street, SW, Washington, DC. The complete text of this decision may also be purchased from the Commission's copy contractors, International Transcription Service, Inc., (202) 857-3800, 1231 20th Street, NW., Washington, DC 20036.

List of Subjects in 47 CFR Part 73

Radio broadcasting.

Part 73 of title 47 of the Code of Federal Regulations is amended as follows:

PART 73—[AMENDED]

1. The authority citation for part 73 continues to read as follows:

Authority: 47 U.S.C. 154, 303, 334 and 336.

§ 73.202 [Amended]

2. Section 73.202(b), the Table of FM Allotments under Wyoming is amended by adding Channel 228C1 at Casper; Lusk, Channel 242C; and Sinclair, Channel 262C.

Federal Communications Commission.
John A. Karousos,
Chief, Allocations Branch, Policy and Rules Division, Mass Media Bureau.

[FR Doc. 00-22617 Filed 9-1-00; 8:45 am]

BILLING CODE 6712-01-P